GENERAL SERVICES ADMINISTRATION

[OMB Control No. 3090-0326; Docket No. 2025-0001; Sequence No. 10]

Submission for OMB Review; General Services Administration Regulation; Construction Payrolls and Basic Records

AGENCY: Office of Acquisition Policy, General Services Administration (GSA).

ACTION: Notice; request for comments.

SUMMARY: Under the provisions of the Paperwork Reduction Act, the Regulatory Secretariat Division will be submitting to the Office of Management and Budget (OMB) a request to review and approve the renewal of an existing information collection.

DATES: Submit comments on or before November 3, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Johnie McDowell, Senior Procurement Analyst, GSA, at telephone 202-718-6112 or via email at gsarpolicy@gsa.gov for clarification of content.

SUPPLEMENTARY INFORMATION:

A. Purpose

The Federal Acquisition Regulation (FAR) Clause 52.222-8 Payrolls and Basic Records requires United States construction contracts in excess of $2,000 to submit weekly for each week in which any contract work is performed a copy of all payrolls to the Contracting Officer. The clause allows contractors to submit the required weekly payroll information using the DOL WH-347 form or any other form desired. GSA deviated from the FAR clause to allow these construction contractors to use an electronic means to submit the required weekly payroll data. The proposed revision will increase the efficiency of the weekly payroll certification process for the contractor, GSA and the contractor's employee through the use of an automated process. The current manual process for reviewing weekly certified payroll data requires an enormous amount of labor hours and has a large probability of human error, i.e., non-identification or delayed identification of errors in pay for covered workers. Delays in identifying payroll errors are costly to the contractor who will need to pay retroactive wage adjustments and the employee will have suffered reduced economic purchase power due to the error in wages.

B. Annual Reporting Burden

GSA bases the following burden estimates for certified payrolls on SAM.gov reports for Fiscal Year 2023. The report indicated 182 construction contractors for GSA projects were subject to the Davis-Bacon or Related Act. GSA's automation of the data collection process will not increase the existing data collection burden from the DOL Wage and Hour Division (WHD) the Office of Management and Budget (OMB) Information Control No. 1235-0008, Davis-Bacon Certified Payroll or 1235-0018, Records to be kept by Employers—Fair Labor Standards Act.

Respondents: 182 (170 prime contractors plus 12 subcontractors).

Responses per Respondent: 52 (1 for each week of the year).

Total Annual Responses: 9,464 (182 respondents × 52 responses).

Hours per Response: 33 minutes (weighted average of 56 minutes (DOL estimated time to input information plus 1 minute recordkeeping for initial entry) + 31 minutes (estimated time to certify payroll in new system plus 1 minute recordkeeping).

Total Burden Hours: 5,205 (9,464 annual responses × 33 minutes)/60 minutes).

C. Public Comments

A 60-day notice published in the Federal Register at 90 FR 33949 on July 18, 2025. No comments were received.

Obtaining Copies of Proposals: Requesters may obtain a copy of the information collection documents from the Regulatory Secretariat Division by calling 202-501-4755 or emailing GSARegSec@gsa.gov. Please cite OMB Control No. 3090-0326, Construction Payrolls and Basic Records, in all correspondence.

Jeffrey A. Koses,
Senior Procurement Executive, Office of Acquisition Policy, Office of Government-wide Policy.

[FR Doc. 2025-19396 Filed 10-2-25; 8:45 am]

BILLING CODE 6820-61-P